DEPARTMENT OF TRANSPORTATION

Federal Aviation Administration

14 CFR Part 73

[Docket No. FAA-2008-0628; Airspace Docket No. 07-ASW-15]

RIN 2120-AA66

Revision of Restricted Area 5107A; White Sands Missile Range, NM

AGENCY: Federal Aviation Administration (FAA), DOT.

ACTION: Final rule; delay of effective date.

SUMMARY: This action delays the effective date for the revision of Restricted Area R-5107A, and the establishment of R-5107K, White Sands Missile Range, NM, until November 20, 2008. The FAA is taking this action to meet the required charting cutoff date necessary to insure the appropriate en route aeronautical charts display these restricted areas coincidental with the effective date.

DATES: Effective Date: 0901 UTC, November 20, 2008.

FOR FURTHER INFORMATION CONTACT: Kelly Neubecker, Airspace and Rules Group, Office of System Operations Airspace and AIM, Federal Aviation Administration, 800 Independence Avenue, SW., Washington, DC 20591; telephone: (202) 267-8783.

SUPPLEMENTARY INFORMATION:

History

On August 20, 2008, the FAA published in the Federal Register a final rule revising restricted area R-5107A, and establishing R-5107K, White Sands Missile Range, NM (73 FR 49090). This rule was originally scheduled to become effective September 25, 2008; however, the charting cutoff date required to be met to ensure charting coincidental with that effective date was missed. To meet the required charting cutoff date, and ensure restricted areas R-5107A and R-5107K are displayed on the appropriate en route charts coincidental with their effective date, the effective date is being slipped to November 20, 2008.

Delay of Effective Date

The effective date of the final rule, Docket FAA-2008-0627; Airspace Docket 07-ASW-15, as published in the Federal Register on August 20, 2008 (73 FR 49090), is hereby delayed until November 20, 2008.

Authority: 49 U.S.C. 106(g), 40103, 40113, 40120; E.O. 10854, 24 FR 9565, 3 CFR, 1959-1963 Comp., p. 389.

Issued in Washington, DC, on September 2, 2008.
Edith V. Parish,
Manager, Airspace and Rules Group.

[FR Doc. E8-21182 Filed 9-11-08; 8:45 am]

BILLING CODE 4910-13-P